NATIONAL ARCHIVES AND RECORDS ADMINISTRATION

[NARA-2015-032]

Open Meeting on General Records Schedule (GRS) 6.1, Email Managed Under a Capstone Approach

AGENCY: National Archives and Records Administration (NARA).

ACTION: Notice of public meeting on General Records Schedule (GRS) 6.1.

SUMMARY: The National Archives and Records Administration (NARA) announces an open meeting to solicit comments on General Records Schedule (GRS) 6.1, Email Managed Under a Capstone Approach. The meeting is open to the public.

DATES: The meeting will be on Thursday, May 21, 2015, from 10 a.m. to 12 p.m. You must R.S.V.P. for the meeting by 5 p.m. on May 18, 2015. If you wish to submit comments in writing instead, you must email them by close of business on June 1, 2015.

Location: National Archives Building, McGowan Theater, 700 Pennsylvania Avenue NW., Washington, DC 20408. Please enter on the Constitution Avenue side of the building.

Contacts: To R.S.V.P. to attend the meeting, submit comments in writing, or to request a paper copy of the GRS review packet, email request.schedule@nara.gov. For other information, contact Sean Curry, by mail at National Archives and Records Administration; 8601 Adelphi Road, College Park, MD 20740, by telephone at 301-821-7914, or by email at specialevents@nara.gov.

SUPPLEMENTARY INFORMATION: Purpose and scope of the GRS. NARA developed GRS 6.1 to provide disposition authority for agencies that implement a capstone approach to managing their email, and to assist agencies to meet Goal 1.2 of the Managing Government Records Directive. The capstone approach is outlined in NARA Bulletin 2013-02: Guidance on a New Approach to Managing Email Records [Capstone]. Goal 1.2 of the Directive requires agencies to manage both permanent and temporary email records in an accessible electronic format by December 31, 2016.

Security. Due to space limitations and access procedures, you must R.S.V.P. in advance if you wish to attend the meeting. You will also go through security screening when you enter the building.

GRS review materials. You may find a packet related to this GRS, including the draft records schedule, accompanying FAQ, and appraisal memorandum, on the National Archives' Records Express blog.

Dated: March 24, 2015.
Paul M. Wester, Jr.,
Chief Records Officer for the U.S. Government.

[FR Doc. 2015-07184 Filed 3-31-15; 8:45 am]

BILLING CODE 7515-01-P